OFFICE OF PERSONNEL MANAGEMENT

Excepted Service

AGENCY: U.S. Office of Personnel Management (OPM).

ACTION: Notice.

SUMMARY: This notice identifies Schedule A, B, and C appointing authorities applicable to a single agency that were established or revoked from September 1, 2013, to September 30, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after December 31, 2014.

Schedule B

No schedule B authorities to report during September 2013.

Schedule C

The following Schedule C appointing authorities were approved during September 2013.

Agency name | Organization name | Position title | Authorization number | Effective date
DEPARTMENT OF AGRICULTURE | Rural Housing Service | State Director—Hawaii | DA130150 | 9/19/2013
| Farm Service Agency | State Executive Director—West Virginia | DA130190 | 9/19/2013
|  | State Executive Director—Pennsylvania | DA130194 | 9/19/2013
|  | State Executive Director—New Jersey | DA130202 | 9/19/2013
| Office of the Under Secretary for Rural Development | Special assistant | DA130218 | 9/5/2013
| Office of the Assistant Secretary for Congressional Relations | Confidential Assistant | DA130217 | 9/6/2013
| Office of Communications | Deputy Director | DA130220 | 9/19/2013
DEPARTMENT OF COMMERCE | Office of the Director | Director, Office of Faith Based and Neighborhood Partnerships | DC130090 | 9/4/2013
| Office of the Chief of Staff | Director of Scheduling and Advance | DC130093 | 9/4/2013
| Office of the Deputy Secretary | Special Assistant | DC130094 | 9/4/2013
| Office of the General Counsel | Special Assistant | DC130091 | 9/9/2013
COMMISSION ON CIVIL RIGHTS | Commissioners | Special Assistant | CC130006 | 9/11/2013
DEPARTMENT OF DEFENSE | Office of the Assistant Secretary of Defense (International Security Affairs) | Special Assistant for Europe and NATO | DD130120 | 9/6/2013
| Office of the Secretary | Advance Officer | DD130123 | 9/25/2013
DEPARTMENT OF EDUCATION | Office of the General Counsel | Confidential Assistant | DB130065 | 9/4/2013
| Office of the Under Secretary | Special Assistant | DB130059 | 9/11/2013
|  | Executive Director | DB130067 | 9/12/2013
|  | Deputy Director, White House Initiative on Historically Black College | DB130068 | 9/12/2013
| Office of Elementary and Secondary Education | Deputy Assistant Secretary for Policy and Programs | DB130069 | 9/13/2013
| Office of the Deputy Secretary | Special Counsel | DB130071 | 9/20/2013
| Office of the Under Secretary | Associate Assistant Deputy Secretary | DB130072 | 9/20/2013
| Office of Vocational and Adult Education | Confidential Assistant | DB130073 | 9/23/2013
DEPARTMENT OF ENERGY | Office of Nuclear Energy | Special Advisor | DE130101 | 9/4/2013
| Office of Public Affairs | Speechwriter | DE130102 | 9/4/2013
| Office of Management | Special Assistant | DE130097 | 9/11/2013
| Loan Programs Office | Special Advisor | DE130117 | 9/24/2013
| Office of Assistant Secretary for Congressional and Intergovernmental Affairs | Director of External Affairs | DE130118 | 9/30/2013
| Office of Assistant Secretary for Congressional and Intergovernmental Affairs | Senior Advisor | DE130122 | 9/30/2013
ENVIRONMENTAL PROTECTION AGENCY | Office of the Associate Administrator for Congressional and Intergovernmental Relations | Deputy Associate Administrator for Office of Congressional Affairs | EP130031 | 9/11/2013
| Office of the Associate Administrator for External Affairs and Environmental Education | Senior Speech Writer | EP130049 | 9/19/2013
FEDERAL ENERGY REGULATORY COMMISSION | Office of the Chairman | Program Analyst | DR130007 | 9/6/2013
GENERAL SERVICES ADMINISTRATION | Office of Communications and Marketing | Director of Public Engagement | GS130025 | 9/27/2013
DEPARTMENT OF HEALTH AND HUMAN SERVICES | Office of Intergovernmental and External Affairs | Regional Director, Chicago, Illinois— Region V | DH130119 | 9/5/2013
| Office of the Assistant Secretary for Planning and Evaluation | Director of Public Health Policy (Office of Health Reform) | DH130122 | 9/5/2013
| Administration for Community Living | Confidential Assistant | DH130121 | 9/5/2013
| Office of the Assistant Secretary for Health | Associate Director | DH130117 | 9/12/2013
| Office of the Assistant Secretary for Public Affairs | Confidential Assistant | DH130120 | 9/5/2013
|  | Digital Communications Coordinator | DH130129 | 9/27/2013
DEPARTMENT OF HOMELAND SECURITY | Office of the Assistant Secretary for Public Affairs | Press Secretary | DM130168 | 9/13/2013
| Office of the Under Secretary for National Protection and Programs Directorate | Advisor | DM130166 | 9/16/2013
| Office of the Chief of Staff | White House Liaison | DM130171 | 9/24/2013
| Federal Emergency Management Agency | Associate Director for Public Affairs/Press Secretary | DM130178 | 9/30/2013
DEPARTMENT OF HOUSING AND URBAN DEVELOPMENT | Office of the Secretary | Special Assistant (2) | DU130038 | 9/4/2013
|  |  | DU130041 | 9/11/2013
DEPARTMENT OF JUSTICE | Office of Legislative Affairs | Chief of Staff and Attorney Advisor | DJ130089 | 9/4/2013
| Office of Public Affairs | Speechwriter | DJ130093 | 9/5/2013
DEPARTMENT OF LABOR | Office of Public Affairs | Director of External Partnership | DL130056 | 9/5/2013
|  | Special Assistant | DL130059 | 9/19/2013
| Office of the Secretary | Director of Public Engagement | DL130058 | 9/13/2013
|  | Special Assistant | DL130063 | 9/26/2013
OFFICE OF NATIONAL DRUG CONTROL POLICY | Intergovernmental Public Liaison | Public Engagement Specialist | QQ130004 | 9/16/2013
| Office of the Director | Policy and Administrative Coordinator | QQ130005 | 9/18/2013
OFFICE OF SCIENCE AND TECHNOLOGY POLICY | Office of Science and Technology Policy | Executive Assistant | TS130003 | 9/16/2013
OVERSEAS PRIVATE INVESTMENT CORPORATION | Office of the President | Deputy Chief of Staff | PQ130004 | 9/27/2013
PRESIDENT'S COMMISSION ON WHITE HOUSE FELLOWSHIPS | President's Commission on White House Fellowships | Public Relations Associate | WH130003 | 9/11/2013
SECURITIES AND EXCHANGE COMMISSION | Office of the Chairman | IT Specialist | SE130006 | 9/19/2013
SMALL BUSINESS ADMINISTRATION | Office of the Administrator | Deputy Scheduler | SB130023 | 9/5/2013
SOCIAL SECURITY ADMINISTRATION | Office of the Commissioner | Senior Advisor | SZ130016 | 9/20/2013
DEPARTMENT OF STATE | Office of the Secretary | Senior Advisor | DS130122 | 9/6/2013
|  | Deputy Chief of Staff for Policy | DS130116 | 9/11/2013
| Bureau of Consular Affairs | Supervisory Public Affairs Specialist | DS130060 | 9/11/2013
| Office of the Under Secretary for Management | Staff Assistant | DS130124 | 9/18/2013
| Office of the Under Secretary for Arms Control and International Security Affairs | Special Assistant | DS130120 | 9/19/2013
TRADE AND DEVELOPMENT AGENCY | Office of the Director | Chief of Staff | TD130004 | 9/26/2013
DEPARTMENT OF TRANSPORTATION | Office of the Secretary | White House Liaison | DT130041 | 9/9/2013

The following Schedule C appointing authorities were revoked during September 2013.

Agency name | Organization name | Position title | Authorization number | Vacate date
DEPARTMENT OF EDUCATION | Office of the General Counsel | Confidential Assistant | DB120017 | 9/7/2013
| Office of the Under Secretary | Special Assistant | DB120021 | 9/21/2013
DEPARTMENT OF HEALTH AND HUMAN SERVICES | Office of the Assistant Secretary for Public Affairs | Senior Speechwriter | DH130040 | 9/6/2013
DEPARTMENT OF HOMELAND SECURITY | Office of the Assistant Secretary for Public Affairs | Director of Strategic Communications | DM100106 | 9/7/2013
| Office of the Assistant Secretary for Policy | Special Assistant | DM110195 | 9/7/2013
| Immediate Office of the Deputy Secretary | Confidential Assistant | DM090285 | 9/21/2013
| Office of the Assistant Secretary for Public Affairs | Deputy Press Secretary | DM110234 | 9/21/2013
DEPARTMENT OF HOUSING AND URBAN DEVELOPMENT | Northwest/Alaska (Seattle) | Regional Administrator | DU100045 | 9/7/2013
| Office of the General Counsel | Senior Counsel | DU110014 | 9/14/2013
DEPARTMENT OF JUSTICE | Office of Legislative Affairs | Attorney Advisor | DJ110034 | 9/7/2013
| Civil Rights Division | Counsel | DJ100176 | 9/21/2013
DEPARTMENT OF LABOR | Office of Public Affairs | Special Assistant | DL090126 | 9/7/2013
DEPARTMENT OF STATE | Office of the Under Secretary for Arms Control and International Security Affairs | Staff Assistant | DS120073 | 9/4/2013
DEPARTMENT OF THE INTERIOR | Secretary's Immediate Office | Special Assistant | DI120031 | 9/6/2013
| Bureau of Safety and Environmental Enforcement | Senior Advisor | DI110089 | 9/27/2013
DEPARTMENT OF TRANSPORTATION | Office of the Secretary | White House Liaison | DT090059 | 9/9/2013
ENVIRONMENTAL PROTECTION AGENCY | Office of the Associate Administrator for Congressional and Intergovernmental Relations | Senior Advisor | EP130019 | 9/14/2013
| Office of the Associate Administrator for External Affairs and Environmental Education | Director, Office of Public Engagement | EP110021 | 9/21/2013
EXPORT-IMPORT BANK | Export Finance | Senior Vice-President for Export Finance | EB060001 | 9/30/2013
OFFICE OF SCIENCE AND TECHNOLOGY POLICY | Office of Science and Technology Policy | Executive Assistant | TS100005 | 9/6/2013
TRADE AND DEVELOPMENT AGENCY | Office of the Director | Chief of Staff | TD120001 | 9/28/2013

Authority: 5 U.S.C. 3301 and 3302; E.O. 10577, 3 CFR, 1954-1958 Comp., p. 218.

U.S. Office of Personnel Management.
Katherine Archuleta,
Director.

[FR Doc. 2013-28664 Filed 11-27-13; 8:45 am]

BILLING CODE 6325-39-P